DEPARTMENT OF COMMERCE

International Trade Administration

[C-570-159, C-560-841, C-201-861, C-489-851]

Aluminum Extrusions From the People's Republic of China, Indonesia, Mexico, and the Republic of Turkey: Postponement of Preliminary Determinations in the Countervailing Duty Investigations

AGENCY: Enforcement and Compliance, International Trade Administration, Department of Commerce.

DATES: Applicable December 6, 2023.

FOR FURTHER INFORMATION CONTACT: Eliza Delong (the People's Republic of China (China)), Thomas Martin (Indonesia), Christopher Williams (Mexico), and Megan Goins (the Republic of Turkey (Turkey)), AD/CVD Operations, Enforcement and Compliance, International Trade Administration, U.S. Department of Commerce, 1401 Constitution Avenue NW, Washington, DC 20230; telephone: (202) 482-3878, (202) 482-3936, (202) 482-5166, or (202) 482-0884, respectively.

SUPPLEMENTARY INFORMATION:

Background

On October 24, 2023, the U.S. Department of Commerce (Commerce) initiated countervailing duty (CVD) investigations of imports of aluminum extrusions from China, Indonesia, Mexico, and Turkey.¹ Currently, the preliminary determinations are due no later than December 28, 2023.

¹ See Aluminum Extrusions from the People's Republic of China, Indonesia, Mexico, and the Republic of Turkey: Initiation of Countervailing Duty Investigations, 88 FR 74433 (October 31, 2023).

Postponement of Preliminary Determinations

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On November 29, 2023, the petitioners ² submitted a timely request that Commerce postpone the preliminary determinations in these investigations.³ The petitioners state that it is necessary to extend the deadline for the preliminary determinations to collect the necessary information for determining the most accurate possible CVD subsidy rates, because the full questionnaire responses are not due until a few days before and after the current preliminary determinations deadline, which gives Commerce little or no time to review responses from respondents, issue supplemental questionnaires, or consider deficiency comments before reaching a preliminary determination.⁴

² The petitioners are the U.S. Aluminum Extruders Coalition (the members of which are Alexandria Extrusion Company; APEL Extrusions; Bonnell Aluminum; Brazeway; Custom Aluminum Products; Extrudex Aluminum; International Extrusions; Jordan Aluminum Company; M-D Building Products, Inc.; Merit Aluminum Corporation; MI Metals; Pennex Aluminum; Tower Extrusions; and Western Extrusions) and the United Steel, Paper and Forestry, Rubber, Manufacturing, Energy, Allied Industrial and Service Workers International Union.

³ See Petitioners' Letter, “Request for Postponement of the Preliminary Determination,” dated November 29, 2023.

⁴ Id.

In accordance with 19 CFR 351.205(e), the petitioners have stated the reasons for requesting a postponement of the preliminary determinations, and Commerce finds no compelling reason to deny the request. Therefore, in accordance with section 703(c)(1)(A) of the Act, Commerce is postponing the deadline for the preliminary determinations to no later than 130 days after the date on which these investigations were initiated, i.e., March 4, 2024.⁵ Pursuant to section 705(a)(1) of the Act and 19 CFR 351.210(b)(1), the deadline for the final determinations of these investigations will continue to be 75 days after the date of the preliminary determinations.

⁵ Because the extended deadline for these preliminary determinations falls on the weekend (i.e., March 2, 2024), the deadline becomes the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: November 30, 2023.
Abdelali Elouaradia,
Deputy Assistant Secretary for Enforcement and Compliance.

[FR Doc. 2023-26746 Filed 12-5-23; 8:45 am]

BILLING CODE 3510-DS-P